DEPARTMENT OF COMMERCE

Bureau of Industry and Security

Order Renewing Temporary Denial of Export Privileges: Rossiya Airlines, Pilotov St 18-4, St. Petersburg, Russia, 196210

Pursuant to Section 766.24 of the Export Administration Regulations, 15 CFR parts 730-774 (“EAR” or “the Regulations”),¹ I hereby grant the request of the Office of Export Enforcement (“OEE”) to renew the temporary denial order (“TDO”) issued in this matter on November 5, 2024. I find that renewal of this order is necessary in the public interest to prevent an imminent violation of the Regulations and that renewal for an extended period is appropriate because Rossiya Airlines (“Rossiya”) has engaged in a pattern of repeated, ongoing and/or continuous apparent violations of the EAR.

¹ On August 13, 2018, the President signed into law the John S. McCain National Defense Authorization Act for Fiscal Year 2019 (“NDAA”), which includes the Export Control Reform Act of 2018, 50 U.S.C. 4801-4852 (“ECRA”). While Section 1766 of the NDAA repeals the provisions of the Export Administration Act, 50 U.S.C. 4601 et seq. (“EAA”), (except for three sections which are inapplicable here), Section 1768 of the NDAA provides, in pertinent part, that all orders, rules, regulations, and other forms of administrative action that were made or issued under the EAA, including as continued in effect pursuant to the International Emergency Economic Powers Act, 50 U.S.C. 1701 et seq. (“IEEPA”), and were in effect as of ECRA's date of enactment (August 13, 2018), shall continue in effect according to their terms until modified, superseded, set aside, or revoked through action undertaken pursuant to the authority provided under ECRA. Moreover, Section 4820(a)(5) of ECRA authorizes the issuance of temporary denial orders.

I. Procedural History

On May 20, 2022, the then-Assistant Secretary of Commerce for Export Enforcement signed an order denying Rossiya's export privileges for a period of 180 days on the ground that issuance of the order was necessary in the public interest to prevent an imminent violation of the Regulations. The order was issued ex parte pursuant to Section 766.24(a) of the Regulations and was effective upon issuance.² The TDO was subsequently renewed in accordance with Section 766.24(d) of the Regulations on November 15, 2022.³ Subsequent renewal orders were issued on May 12, 2023, November 8, 2023, and November 5, 2024, respectively, and were also effective upon issuance.⁴

² The TDO was published in the Federal Register on May 25, 2022 (87 FR 31856).

³ The November 15, 2022 renewal order was published in the Federal Register on November 21, 2022 (87 FR 70780). At the time of the renewal, Section 766.24(d) provided that BIS may seek renewal of a temporary denial order for additional 180-day renewal periods, if it believes that renewal is necessary in the public interest to prevent an imminent violation.

⁴ The May 12, 2023 renewal order was published in the Federal Register on May 17, 2023 (88 FR 31483). The November 8, 2023 renewal order was published in the Federal Register on November 14, 2023 (88 FR 77952). The November 5, 2024 renewal order was published in the Federal Register on November 8, 2024 (89 FR 88721).

On October 6, 2025, BIS, through OEE, submitted a written request for a renewal of the TDO. The written request was made more than 20 days before the TDO's scheduled expiration and, given the temporary suspension of international mail service to Russia, OEE has attempted to deliver a copy of the renewal request to Rossiya by alternative means in accordance with Sections 766.5 and 766.24(d) of the Regulations. No opposition to the renewal of the TDO has been received.

II. Renewal of the TDO

A. Legal Standard

Pursuant to Section 766.24, BIS may issue an order temporarily denying a respondent's export privileges upon a showing that the order is necessary in the public interest to prevent an “imminent violation” of the Regulations, or any order, license or authorization issued thereunder. 15 CFR 766.24(b)(1) and 766.24(d). “A violation may be `imminent' either in time or degree of likelihood.” 15 CFR 766.24(b)(3). BIS may show “either that a violation is about to occur, or that the general circumstances of the matter under investigation or case under criminal or administrative charges demonstrate a likelihood of future violations.” Id. As to the likelihood of future violations, BIS may show that the violation under investigation or charge “is significant, deliberate, covert and/or likely to occur again, rather than technical or negligent[.]” Id. A “lack of information establishing the precise time a violation may occur does not preclude a finding that a violation is imminent, so long as there is sufficient reason to believe the likelihood of a violation.” Id.

If BIS believes that renewal of a denial order is necessary in the public interest to prevent an imminent violation, it may file a written request for renewal, with any modifications if appropriate. 15 CFR 766.24(d)(1). The written request, which must be filed no later than 20 days prior to the TDO's expiration, should set forth the basis for BIS's belief that renewal is necessary, including any additional or changed circumstances. Id. “In cases demonstrating a pattern of repeated, ongoing and/or continuous apparent violations, BIS may request the renewal of a temporary denial order for an additional period not exceeding one year.” ⁵ Id.

⁵ 88 FR 59791 (Aug. 30, 2023).

B. The TDO and BIS's Request for Renewal

The U.S. Commerce Department, through BIS, responded to the Russian Federation's (“Russia's”) further invasion of Ukraine by implementing a sweeping series of stringent export controls that severely restrict Russia's access to technologies and other items that it needs to sustain its aggressive military capabilities. These controls primarily target Russia's defense, aerospace, and maritime sectors and are intended to cut off Russia's access to vital technological inputs, atrophy key sectors of its industrial base, and undercut Russia's strategic ambitions to exert influence on the world stage. Effective February 24, 2022, BIS imposed expansive controls on aviation-related (e.g., Commerce Control List Categories 7 and 9) items to Russia, including by imposing a license requirement for the export, reexport or transfer (in-country) to Russia of any aircraft or aircraft parts specified in Export Control Classification Number (“ECCN”) 9A991 (Section 746.8(a)(1) of the EAR).⁶ BIS will review any export or reexport license applications for such items under a policy of denial. See Section 746.8(b). Effective March 2, 2022, BIS excluded any aircraft registered in, owned, or controlled by, or under charter or lease by Russia or a national of Russia from being eligible for license exception Aircraft, Vessels, and Spacecraft (“AVS”) (Section 740.15 of the EAR).⁷ Accordingly, any U.S.-origin aircraft or foreign aircraft that includes more than 25% controlled U.S.-origin content, and that is registered in, owned, or controlled by, or under charter or lease by Russia or a national of Russia, is subject to a license requirement before it can travel to Russia.

⁶ 87 FR 12226 (Mar. 3, 2022).

⁷ 87 FR 13048 (Mar. 8, 2022).

OEE's request for renewal for a period of one year is based upon the facts underlying the issuance of the initial TDO and the renewal orders subsequently issued in this matter on November 15, 2022, May 12, 2023, November 8, 2023, and November 5, 2024, as well as other evidence developed during this investigation. This evidence demonstrates that Rossiya has continued, and continues, to act in blatant disregard for U.S. export controls and the terms of previously issued TDOs. Specifically, the initial TDO, issued on May 20, 2022, was based on evidence that Rossiya engaged in conduct prohibited by the Regulations by operating multiple aircraft subject to the EAR and classified under ECCN 9A991.b on flights into Russia after March 2, 2022, from destinations including, but not limited to, Hurghada, Egypt; Sharm el-Sheikh, Egypt; Dubai, United Arab Emirates; and Sharjah, United Arab Emirates, without the required BIS authorization.⁸ Further evidence indicated that Rossiya also operated aircraft subject to the EAR domestically on flights within Russia, potentially in violation of Section 736.2(b)(10) of the Regulations.

⁸ Publicly available flight tracking information shows that on March 8, 2022, serial number (SN) 27650 flew from Hurghada, Egypt to Moscow, Russia. On March 6, 2022, SN 41212 flew from Sharm el-Sheikh, Egypt to St. Petersburg, Russia. In addition, on March 6, 2022, SN 44435 flew from Dubai, United Arab Emirates to St. Petersburg, Russia. Similarly, on March 7, 2022, SN 41202 flew from Sharjah, United Arab Emirates to Moscow, Russia.

As discussed in the prior renewal orders, BIS presented evidence indicating that, after the initial TDO issued, Rossiya continued to operate aircraft subject to the EAR and classified under ECCN 9A991.b on flights both into and within Russia, in violation of the Regulations and the TDO itself.⁹ The November 15, 2022 renewal order detailed flights into and out of Russia from/to Antalya and Istanbul, Turkey, as well as within Russia.¹⁰ The May 12, 2023 renewal order detailed flights into and out of Russia from/to Hurghada and Sharm el-Sheikh, Egypt and Istanbul, Turkey.¹¹ Similarly, the November 8, 2023 renewal order detailed flights into and out of Russia from/to Bishkek, Kyrgyzstan, Samarkand, Uzbekistan, and Hurghada and Sharm el-Sheikh, Egypt.¹² Additionally, the November 5, 2024 renewal order detailed flights into and out of Russia from/to Sanya, China and Bishkek, Kyrgyzstan, as well as domestically within Russia.¹³

⁹ Engaging in conduct prohibited by a denial order violates the Regulations. 15 CFR 764.2(a) and (k).

¹⁰ Publicly available flight tracking information shows that SN 35278 flew from Antalya, Turkey to Moscow, Russia on November 12, 2022 and from Kaliningrad, Russia to Moscow, Russia on September 29, 2022. In addition, SN 33622 flew from Istanbul, Turkey to St. Petersburg, Russia on November 2, 2022 and from Krasnoyarsk, Russia to Irkutsk, Russia on November 5, 2022.

¹¹ Publicly available flight tracking information shows that SN 34900 flew from Sharm el-Sheikh, Egypt to Moscow, Russia on March 20, 2023. Additionally, SN 34897 flew from Istanbul, Turkey to Moscow, Russia on March 16, 2023 and SN 28515 flew from Magadan, Russia to Anadyr, Russia on April 25, 2023.

¹² Publicly available flight tracking information shows that SN 34900 flew from Bishkek, Kyrgyzstan to Krasnoyarsk, Russia on November 3, 2023 and from Sharm el-Sheikh, Egypt to Moscow, Russia on September 21, 2023. In addition, SN 35278 flew from Samarkand, Uzbekistan to St. Petersburg, Russia on August 4, 2023. On November 1 to November 2, 2023, SN 34897 flew from Hurghada, Egypt to Samara, Russia.

¹³ Publicly available flight tracking information shows that SN 34900 flew from Sanya, China to Krasnoyarsk, Russia on October 18, 2024. Additionally, SN 34897 flew from Bishkek, Kyrgyzstan to Krasnoyarsk, Russia on August 28, 2024. Also on August 28, 2024, SN 28531 flew from Magadan, Russia to Moscow, Russia.

Since that time, Rossiya has continued to engage in conduct prohibited by the applicable TDO and Regulations. In its October 6, 2025 request for renewal of the TDO, BIS submitted evidence that Rossiya continues to operate aircraft subject to the EAR and classified under ECCN 9A991.b, both on flights into and within Russia, in violation of the November 5, 2024 renewal order and/or the Regulations. Specifically, BIS's evidence and related investigation demonstrates that Rossiya continued to operate aircraft subject to the EAR, including, but not limited to, on flights into and out of Russia from/to Samarkand, Uzbekistan, Sharm el-Sheikh and Hur Ghada, Egypt, as well as domestically within Russia. Information about those flights includes, but is not limited to, the following:

Tail No. | Serial No. | Aircraft type | Departure/arrival cities | Dates
RA-73188 | 34900 | 737-8GJ | Perm, RU/Sochi, RU. | September 22, 2025.
RA-73188 | 34900 | 737-8GJ | Tomsk, RU/Sochi, RU | September 20, 2025.
RA-73188 | 34900 | 737-8GJ | Samarkand, UZ/St. Petersburg, RU | March 28, 2025.
RA-73192 | 34897 | 737-8GJ | Sochi, RU/Novosibirsk, RU | September 21, 2025.
RA-73192 | 34897 | 737-8GJ | Ufa, RU/Sochi, RU | September 20, 2025.
RA-73192 | 34897 | 737-8GJ | Samarkand, UZ/St. Petersburg, RU | February 28, 2025.
RA-73211 | 41232 | 737-8LJ | Sharm el-Sheikh, EG/Ufa, RU | October 5, 2025.
RA-73211 | 41232 | 737-8LJ | Kazan, RU/Sharm el-Sheikh, EG | October 3, 2025.
RA-73211 | 41232 | 737-8LJ | Hurghada, EG/Moscow, RU | September 30, 2025.

III. Findings

Under the applicable standard set forth in Section 766.24 of the Regulations and my review of the entire record, I find that the evidence presented by BIS demonstrates that Rossiya has acted in violation of the Regulations and the TDO; that such violations have been significant, deliberate; and that given the foregoing and the nature of the matters under investigation, there is a likelihood of imminent violations. Moreover, I find that renewal for an extended period is appropriate because Rossiya has engaged in a pattern of repeated, ongoing and/or continuous apparent violations of the EAR. Therefore, renewal of the TDO for one year is necessary in the public interest to prevent imminent violation of the Regulations and to give notice to companies and individuals in the United States and abroad that they should avoid dealing with Rossiya, in connection with export and reexport transactions involving items subject to the Regulations and in connection with any other activity subject to the Regulations.

IV. Order

It is therefore ordered:

First, Rossiya Airlines, Pilotov St 18-4, St. Petersburg, Russia, 196210, when acting for or on their behalf, any successors or assigns, agents, or employees may not, directly or indirectly, participate in any way in any transaction involving any commodity, software or technology (hereinafter collectively referred to as “item”) exported or to be exported from the United States that is subject to the EAR, or in any other activity subject to the EAR including, but not limited to:

A. Applying for, obtaining, or using any license (except directly related to safety of flight), license exception, or export control document;

B. Carrying on negotiations concerning, or ordering, buying, receiving, using, selling, delivering, storing, disposing of, forwarding, transporting, financing, or otherwise servicing in any way, any transaction involving any item exported or to be exported from the United States that is subject to the EAR except directly related to safety of flight and authorized by BIS pursuant to Section 764.3(a)(2) of the Regulations, or engaging in any other activity subject to the EAR except directly related to safety of flight and authorized by BIS pursuant to Section 764.3(a)(2) of the Regulations; or

C. Benefitting in any way from any transaction involving any item exported or to be exported from the United States that is subject to the EAR, or from any other activity subject to the EAR except directly related to safety of flight and authorized by BIS pursuant to Section 764.3(a)(2) of the Regulations.

Second, that no person may, directly or indirectly, do any of the following:

A. Export, reexport, or transfer (in-country) to or on behalf of Rossiya any item subject to the EAR except directly related to safety of flight and authorized by BIS pursuant to Section 764.3(a)(2) of the Regulations;

B. Take any action that facilitates the acquisition or attempted acquisition by Rossiya of the ownership, possession, or control of any item subject to the EAR that has been or will be exported from the United States, including financing or other support activities related to a transaction whereby Rossiya acquires or attempts to acquire such ownership, possession or control except directly related to safety of flight and authorized by BIS pursuant to Section 764.3(a)(2) of the Regulations;

C. Take any action to acquire from or to facilitate the acquisition or attempted acquisition from Rossiya of any item subject to the EAR that has been exported from the United States except directly related to safety of flight and authorized by BIS pursuant to Section 764.3(a)(2) of the Regulations;

D. Obtain from Rossiya in the United States any item subject to the EAR with knowledge or reason to know that the item will be, or is intended to be, exported from the United States except directly related to safety of flight and authorized by BIS pursuant to Section 764.3(a)(2) of the Regulations; or

E. Engage in any transaction to service any item subject to the EAR that has been or will be exported from the United States and which is owned, possessed or controlled by Rossiya, or service any item, of whatever origin, that is owned, possessed or controlled by Rossiya if such service involves the use of any item subject to the EAR that has been or will be exported from the United States except directly related to safety of flight and authorized by BIS pursuant to Section 764.3(a)(2) of the Regulations. For purposes of this paragraph, servicing means installation, maintenance, repair, modification, or testing.

Third, that, after notice and opportunity for comment as provided in section 766.23 of the EAR, any other person, firm, corporation, or business organization related to Rossiya by ownership, control, position of responsibility, affiliation, or other connection in the conduct of trade or business may also be made subject to the provisions of this Order.

In accordance with the provisions of Sections 766.24(e) of the EAR, Rossiya may, at any time, appeal this Order by filing a full written statement in support of the appeal with the Office of the Administrative Law Judge, U.S. Coast Guard ALJ Docketing Center, 40 South Gay Street, Baltimore, Maryland 21202-4022.

In accordance with the provisions of Section 766.24(d) of the EAR, BIS may seek renewal of this Order by filing a written request not later than 20 days before the expiration date. A renewal request may be opposed by Rossiya as provided in Section 766.24(d), by filing a written submission with the Assistant Secretary of Commerce for Export Enforcement, which must be received not later than seven days before the expiration date of the Order.

A copy of this Order shall be provided to Rossiya and shall be published in the Federal Register.

This Order is effective immediately and shall remain in effect for one year.

Dated: November 4, 2025.
David Peters,
Assistant Secretary of Commerce for Export Enforcement.

[FR Doc. 2025-19863 Filed 11-12-25; 8:45 am]

BILLING CODE 3510-DT-P